DEPARTMENT OF TRANSPORTATION

Federal Aviation Administration

14 CFR Part 71

[Docket No. FAA-2004-19052; Airspace Docket No. 04-ANM-12]

RIN 2120-AA66

Revision of Jet Route 94

AGENCY: Federal Aviation Administration (FAA), DOT.

ACTION: Final rule.

SUMMARY: This action realigns a segment of Jet Route 94 (J-94) between the Oakland, CA, Very High Frequency Omnidirectional Range/Tactical Air Navigation (VORTAC) and the Mustang, NV, VORTAC. Specifically, the FAA is taking this action to realign the current route segment between the Oakland VORTAC and the Mustang VORTAC that is unusable for navigation. This action will enhance air safety, simplify routings, and reduce controller workload.

EFFECTIVE DATE: 0901 UTC, July 7, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On October 1, 2004, the FAA published in the Federal Register a notice of proposed rulemaking to realign J-94 for flights serving destinations between California and the East (69 FR 58859). Interested parties were invited to participate in this rulemaking effort by submitting written comments on the proposal to the FAA. No comments objecting to the proposal were received. With the exception of editorial changes, this amendment is the same as that proposed in the notice.

The Rule

This action amends Title 14 Code of Federal Regulations (14 CFR) part 71 (part 71) by realigning a segment of J-94 between the Oakland, CA, VORTAC and the Mustang, NV, VORTAC. The current route segment is currently unusable for air navigation. This amendment will restore the use of J-94 for flights serving destinations between California and the East.

Jet routes are published in paragraph 2004 of FAA Order 7400.9M dated August 30, 2004, and effective September 16, 2004, which is incorporated by reference in 14 CFR 71.1. The jet route listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9M, Airspace Designations and Reporting Points, dated August 30, 2004, and effective September 16, 2004, is amended as follows:

Paragraph 2004 Jet Routes.

* * * * *

J-94 [Revised]

From Oakland, CA, via Manteca, CA; INT Manteca 047° and Mustang, NV 208° radials; to Mustang, NV; Lovelock, NV; Battle Mountain, NV; Lucin, UT; Rock Springs, WY; Scottsbluff, NE; O'Neill, NE; Fort Dodge, IA; Dubuque, IA; Northbrook; Pullman, MI; Flint, MI; Peck, MI; to the INT of the Peck 100° radial with the United States/Canadian Border. From the United States/Canadian Border at its INT with the Buffalo, NY, 274° radial via Buffalo; Albany, NY, to Boston, MA.

* * * * *

Issued in Washington, DC, April 29, 2005.
Edith V. Parish,
Acting Manager, Airspace and Rules.

[FR Doc. 05-9038 Filed 5-5-05; 8:45 am]

BILLING CODE 4910-13-P